DEPARTMENT OF TRANSPORTATION

Federal Transit Administration

[Docket No. FTA-2010-0034]

Notice of Proposed Guidance and Request for Comment on the Federal Transit Administration's Research, Technical Assistance, and Training Programs: Application Instructions and Program Management Guidelines (FTA Circular 6100.1D)

AGENCY: Federal Transit Administration (FTA), DOT.

ACTION: Notice of availability of proposed guidance and request for comment.

SUMMARY: This notice proposes guidance in the form of a revised circular on the Federal Transit Administration's research, technical assistance, and training programs and seeks comment thereon. Proposed FTA Circular 6100.1D, “Research, Technical Assistance, and Training Programs: Application Instructions and Program Management Guidelines,” modifies FTA's existing FTA Circular 6100.1C, “Transit Research and Technology Programs: Application Instructions and Program Management Guidelines” to reflect current policy and new FTA programs, restructures the circular, and clarifies FTA's requirements and processes.

DATES: Comments must be received by November 29, 2010. Late-filed comments will be considered to the extent practicable.

ADDRESSES: You must include the agency name (Federal Transit Administration) and the docket number (FTA-2010-0034) with your comments. To ensure your comments are not entered into the docket more than once, please submit comments, identified by the docket number (FTA-2010-0034) by only one of the following methods:

1. Web site: The U.S. Government electronic docket site is http://www.regulations.gov. Go to this Web site and follow the instructions for submitting comments into docket number FTA-2010-0034;

2. Fax: Telefax comments to 202-493-2251;

3. Mail: Mail your comments to U.S. Department of Transportation, 1200 New Jersey Avenue, SE., Docket Operations, M-30, Room W12-140, Washington, DC 20590; or

4. Hand Delivery: Bring your comments to the U.S. Department of Transportation, 1200 New Jersey Avenue, SE., Docket Operations, M-30, West Building Ground Floor, Room W12-140, Washington, DC 20590, between 9 a.m. and 5 p.m., Monday through Friday, except Federal holidays.

Instructions for submitting comments: You must include the agency name (Federal Transit Administration) and Docket number (FTA-2010-0034) for this notice at the beginning of your comments. You should submit two copies of your comments if you submit them by mail or courier. For confirmation that FTA has received your comments, you must include a self-addressed stamped postcard. Note that all comments received will be posted without change to http://www.regulations.gov, including any personal information provided, and will be available to Internet users. You may review DOT's complete Privacy Act Statement in the Federal Register published April 11, 2000, (65 FR 19477), or you may visit http://www.regulations.gov.

Docket: For Internet access to the docket to read background documents and comments received, go to http://www.regulations.gov. Background documents and comments received may also be viewed at the U.S. Department of Transportation, 1200 New Jersey Avenue, SE., Docket Operations, M-30, West Building, Ground Floor, Room W12-140, Washington, DC 20590 between 9 a.m. and 5 p.m., Monday through Friday, except Federal holidays.

FOR FURTHER INFORMATION CONTACT: For program questions, please contact MaryAnne Polkiewicz at (202) 366-0203 or maryanne.polkiewicz@dot.gov. For legal questions, please contact Linda Sorkin at 202-366-0959 or linda.sorkin@dot.gov.

SUPPLEMENTARY INFORMATION:

Table of Contents

I. Overview

II. Chapter-by-Chapter Analysis

A. Chapter I—Introduction and Background

B. Chapter II—Program Overview

C. Chapter II—Application Instructions

D. Chapter IV—Project Administration

E. Chapter V—FTA Oversight

F. Chapter VI—Financial Management

G. Appendices

I. Overview

The bulk of this proposed circular consists of restructuring of the 2003 edition of FTA Circular 6100.1C coupled with updates of Federal statutory and regulatory citations, to reflect current policy and new FTA programs; and clarify FTA's requirements and processes.

FTA seeks comments on the proposed circular, in particular those portions of the circular reflecting new guidance, policies, or interpretations. Comments received will be considered by FTA when it develops its final FTA Circular 6100.1D. FTA will reply to comments received in response to this notice in a second Federal Register notice to be published after the close of the comment period. The second notice will announce the availability of and the effective date of the final FTA Circular 6100.1D, which final circular will reflect the changes FTA implemented as a result of the comments received in response to this Federal Register notice.

II. Chapter-by-Chapter Analysis

A. Chapter I—Introduction and Background

The first four sections of this chapter are a general introduction to FTA that is proposed to be included in all new and revised program circulars for the orientation of readers new to FTA programs. Section 5 of this chapter sets forth definitions of terms appearing in the proposed circular to ensure a common understanding of terms.

B. Chapter II—Program Overview

Sections 1 and 2 describe the statutory authority and nature of the national research programs and activities for which this circular applies. Section 3 clarifies the project management roles and responsibilities of the recipient and FTA. Section 4 describes civil rights requirements, and Section 5 notes that Federal cross-cutting requirements will apply to these projects.

C. Chapter III—Application Instructions

Chapter III describes application instructions including the use of the Web-based Transportation Electronic Award and Management (TEAM system), the development of pre-applications or white papers, the development of formal applications including project budgets and statements of work, and other application requirements. Section 6 describes how FTA may request recipients to participate in Peer Review of applications.

D. Chapter IV—Project Administration

Chapter IV describes project administration requirements. Section 3 describes project identification requirements on all equipment, hardware, construction, reports, data or any similar items produced in the course of the project. Section 4 describes reporting requirements, clarifying that all recipients must submit quarterly Federal Financial Reports (FFR) and Milestone Progress Reports (MPR) in TEAM and clarifies the development of Quarterly Narrative Reports. Section 4 also updates guidelines on the Final Report and other major technical report development and clarifies the requirements for electronic copies. Section 4 also clarifies that all FTA-sponsored reports, not just the Final Report, must contain an identification notice acknowledging FTA sponsorship. Section 5 clarifies prior approval requirements and procedures for obtaining prior approval. It clarifies prior approval requirements for transfers of financial assistance between cost categories and permits prior approvals to be requested and granted electronically by authorized officials. Section 6 describes project modifications including budget revisions and amendments. Sections 7, 8, and 9 describe recipient responsibilities for equipment, intangible property, and supplies. Section 10 clarifies the recipient's third party procurement responsibilities. Section 11 describes project close-out procedures. Sections 12 and 13 describe suspension and termination procedures. Section 14 describes responsibilities for record retention.

E. Chapter V—FTA Oversight

Section 1 is a general description of FTA's oversight program. Section 2 describes FTA's Oversight Programs that FTA may undertake. Section 3 describes the types of reviews that may apply to the FTA recipient or its projects. Section 3 describes the peer review process FTA may request recipients to participate in.

F. Chapter VI—Financial Management

Sections 2-6 describe the proper use and management of Federal assistance including internal controls, non-Federal matching share, the applicable Federal cost principles, indirect costs, and program income. Section 7 describes the single annual audit requirements and describes when these may be extended to for-profit organizations. Section 8 clarifies payment procedures requiring all recipients to make requests using the Request of Advance or Reimbursement Standard Form 270 (SF-270), as is current practice.

G. Appendices

Appendix A lists all FTA circulars.

Appendix B provides an example of a Progress Report.

Appendix C describes requirements for developing a Cost Allocation Plan.

Appendix D provides instructions for submitting the Request of Advance or Reimbursement (SF-270).

Appendix E provides FTA regional and metropolitan contact information.

Appendix F is the Subject and Location index.

Issued this 24th day of September 2010.
Peter Rogoff,
Administrator.

[FR Doc. 2010-24567 Filed 9-29-10; 8:45 am]

BILLING CODE P